DEPARTMENT OF COMMERCE

Foreign-Trade Zones Board

[B-75-2016]

Foreign-Trade Zone (FTZ) 122—Corpus Christi, Texas; Notification of Proposed Production Activity; voestalpine Texas, LLC (Hot Briquetted Iron By-Products); Portland, Texas

The Port of Corpus Christi Authority, grantee of FTZ 122, submitted a notification of proposed production activity to the FTZ Board on behalf of voestalpine Texas, LLC (voestalpine), located in Portland, Texas. The notification conforming to the requirements of the regulations of the FTZ Board (15 CFR 400.22) was received on November 7, 2016.

voestalpine already has authority to produce hot briquetted iron using foreign-sourced iron ore pellets within Subzone 122T. The current request would add hot briquetted iron (HBI) by-products and foreign-status materials/components to the scope of authority. Pursuant to 15 CFR 400.14(b), additional FTZ authority would be limited to the specific foreign-status materials/components and specific by-products described in the submitted notification (as described below) and subsequently authorized by the FTZ Board.

Production under FTZ procedures could exempt voestalpine from customs duty payments on the foreign-status materials/components used in export production. On its domestic sales, voestalpine would be able to choose the duty rates during customs entry procedures that apply to the HBI by-products—iron sludge, recycled iron briquettes, direct reduction remet, and iron fines (duty free) for the foreign-status materials/components noted below and in the existing scope of authority. Customs duties also could possibly be deferred or reduced on foreign-status production equipment.

The materials which may be sourced from abroad include sodium bentonite and slaked lime (duty free).

Public comment is invited from interested parties. Submissions shall be addressed to the FTZ Board's Executive Secretary at the address below. The closing period for their receipt is December 27, 2016.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: November 8, 2016.
Andrew McGilvray,
Executive Secretary.

[FR Doc. 2016-27571 Filed 11-15-16; 8:45 am]

BILLING CODE 3510-DS-P